DEPARTMENT OF COMMERCE

National Oceanic and Atmospheric Administration

50 CFR Part 622

[Docket No. 0907151138-1235-03]

RIN 0648-AY03

Fisheries of the Caribbean, Gulf of Mexico, and South Atlantic; Queen Conch Fishery of Puerto Rico and the U.S. Virgin Islands; Queen Conch Management Measures

Correction

In rule document 2011-10446 appearing on pages 23907-23909 in the issue of Friday, April 29, 2011, make the following correction:

§ 622.32 [Corrected]

On page 23908, in the third column, in § 622.32(b)(1)(iv), in the fourth line “64E34′ W.” should read “64°34′ W.”.

[FR Doc. C1-2011-10446 Filed 5-25-11; 8:45 am]

BILLING CODE 1505-01-D